DEPARTMENT OF THE INTERIOR

Bureau of Land Management

[WY-100-1310-ES]

Availability of the Pinedale Anticline Record of Decision

AGENCY: Bureau of Land Management, Interior.

SUMMARY: Pursuant to the National Environmental Policy Act (NEPA) and implementing regulations, the Bureau of Land Management (BLM) announces the availability of the Record of Decision (ROD) for the Pinedale Anticline Natural Gas Exploration and Development Project Environmental Impact Statement (EIS). The ROD specifies the decision of the BLM Wyoming State Director regarding natural gas exploration and development allowed, including restrictions and limitations, on Federal lands and minerals within the project area in Sublette County, Wyoming. Implementation of this decision will commence immediately (i.e., it is issued full force and effect).

DATES: This decision may be appealed to the Interior Board of Land Appeals, Office of the Secretary, in accordance with the regulations contained in 43 CFR 3165.4(c) within 30 days of the date on which this Notice appears in the Federal Register. That date is anticipated to be on or about August 8, 2000.

ADDRESSES: If an appeal is filed, the notice of appeal must be filed in the office of the Bureau of Land Management, State Director, P.O. Box 1828, Cheyenne, Wyoming 82003 within 30 days of the date BLM publishes their notice of the decision in the Federal Register.

FOR FURTHER INFORMATION CONTACT: Bill McMahan, telephone: (307) 352-0224. Copies of the ROD may be obtained from the following BLM offices:

Pinedale Field Office, 432 East Mill Street, Pinedale, Wyoming 82941 (telephone 307-367-5300);

Rock Springs Field Office, 280 Highway 191 North, Rock Springs, Wyoming 82901 (telephone 307-352-0224); or

Wyoming State Office, 5353 Yellowstone Road, Cheyenne, Wyoming 82009.

SUPPLEMENTARY INFORMATION: The Pinedale Anticline ROD records the decision made by the BLM Wyoming State Director, in consultation with the USDA—Forest Service, U.S. Army Corps of Engineers, and the State of Wyoming (cooperating agencies in the preparation of the EIS), for managing the Federal surface and mineral estate in the Pinedale Anticline Oil and Gas Exploration and Development Project Area (PAPA). The PAPA comprises approximately 197,345 acres of Federal, State, and private land. Of this total, approximately 157,719 surface acres (79.9 percent) are Federal managed by the BLM; 9,766 surface acres (5.0 percent) are administered by the State of Wyoming; and 29,860 acres (15.1 percent) are privately controlled.

The BLM approves the Pinedale Anticline Operators proposal for 700 producing well pads over the next 10 to 15 years within the PAPA. The approved development will be implemented under the “Resource Protection (RP) Alternative on Federal Lands and Minerals,” as modified. The ROD recognizes the PAPA as one which has been relatively undisturbed by development for natural gas and that there are important and highly sensitive natural resources and human values within or adjacent to the area which require consideration and protection from unnecessary or undue degradation (Federal Land Policy and Management Act [FLPMA]—section 302). The ROD recognizes that in order to develop 700 productive well pads in the PAPA, as many as 900 well pads may need to be constructed and drilled and that as many as 200 of these well pads may be plugged, abandoned and reclaimed because the wells would be dry holes or uneconomical to produce. The ROD also recognizes that not all of the well pads will be located on Federal lands/minerals. Some will be located on State and private lands/minerals. Therefore, monitoring for project consistency with the scope of EIS analysis will be based on a total of 700 producing well pads.

BLM believes that implementation of the “Resource Protection Alternative on Federal Lands and Minerals,” as modified, will provide the best balance of multiple uses within the PAPA, and will sustain the long-term yield of resources while promoting stability of local and regional economies, environmental integrity, and conservation of resources for future generations (NEPA section 101 and FLPMA, section 302). The RP Alternative on Federal Lands and Minerals will provide for the management of the PAPA in a manner that allows for natural gas exploration and development while continuing to provide for the existing principal and major uses recognized by the land use plan for this area (e.g., domestic livestock grazing; fish and wildlife habitat protection, utilization, and development; mineral exploration and production; utility and road rights-of-way; visual resource protection; outdoor recreation).

The ROD, to the extent allowed by law, incorporates restrictions and mitigative measures in consideration of the need to prevent unnecessary or undue degradation of important and sensitive resources and human values, and in consideration of Federal, State, local agency, public, and affected Indian tribe concerns raised during scoping and in comments received on the draft and final EIS. The ROD incorporates a process recommended by the Environmental Protection Agency (EPA), called Adaptive Environmental Management (AEM), which will provide for project implementation oversight to ensure maximum consideration for the reasonable protection of identified concerns through its development and implementation. The AEM Process will be designed to ensure that the implementation of the Pinedale Anticline Project is managed and monitored in a manner that will guide midcourse corrections in adapting to inevitable problems or changes associated with and inherent in each authorization for the implementation, operation, and abandonment of activities to develop the mineral resource.

The ROD authorizes the BLM Pinedale Field Manager or Authorized Officer to begin processing Applications for Permit to Drill (APDs), Sundry Notices (SNs), Rights-of-Way (ROWs), and Temporary Use Permits (TUPs) on public lands administered by the BLM for the Pinedale Anticline Project Operators and for companies contracted by the Operators. Approval of individual applications will authorize the implementation of the various components of the Pinedale Anticline Project (e.g., access road and well pad construction, gas gathering pipeline and production facilities installation, etc.). The ROD provides the BLM Pinedale Field Manager approval to permit the following project components on BLM-administered Federal lands and minerals within the PAPA, subject to the constraints specified. Proposed development beyond the specified levels will require the preparation of a supplemental environmental impact analysis to the EIS.

900 Initial well pad locations on all lands and minerals within the PAPA.

700 Producing wells and/or well pads on all lands and minerals within the PAPA.

700 Production facilities at individual well locations.

Central production facilities.

4 Compressor facility sites.

Water wells for drilling/completion water.

1 BP Amoco Field Office.

~121.5 Miles of sales pipeline corridor for multiple pipelines.

~276.0 Miles of access road (including collector, local and resource roads).

~280.0 Miles of gathering pipeline system.

The decision may be appealed to the Interior Board of Land Appeals, Office of the Secretary, in accordance with the regulations contained in 43 CFR 3165.4(c). If an appeal is filed, your notice of appeal must be filed in this office (Bureau of Land Management, State Director, P.O. Box 1828, Cheyenne, Wyoming 82003) within 30 days of the date BLM publishes their notice of the decision in the Federal Register. The appellant has the burden of showing that the decision appealed from is in error.

If you wish to file a petition (pursuant to 43 CFR 3165.4(c)) for a stay (suspension) of the effectiveness of this decision during the time that your appeal is being reviewed by the Board, the petition for a stay must accompany your notice of appeal. A petition for a stay is required to show sufficient justification based on the standards listed in 43 CFR 3165.4(c). Copies of the notice of appeal and petition for a stay must also be submitted to the Interior Board of Land Appeals and to the appropriate office of the Solicitor at the same time the original documents are filed with this office. If you request a stay, you have the burden of proof to demonstrate that a stay should be granted.

Dated: July 27, 2000.
Alan R. Pierson,
State Director.

[FR Doc. 00-19808 Filed 8-4-00; 8:45 am]

BILLING CODE 4310-22-P